DEPARTMENT OF HOMELAND SECURITY

U.S. Customs and Border Protection

19 CFR Part 101

[Docket No. USCBP-2011-0031]

Modification of the Port Limits of Green Bay, WI

AGENCY: U.S. Customs and Border Protection; Department of Homeland Security.

ACTION: Notice of proposed rulemaking.

SUMMARY: U.S. Customs and Border Protection (CBP) is proposing to extend the geographic limits of the port of Green Bay, Wisconsin, to update and change the description of the port boundaries to refer to identifiable roadways and waterways rather than townships and to include the entire Austin Straubel Airport. Due to an error, a portion of the airport is located outside the current port limits. The change is part of CBP's continuing program to more efficiently utilize its personnel, facilities, and resources, and to provide better service to carriers, importers, and the general public.

DATES: Comments must be received on or before January 9, 2012.

ADDRESSES: You may submit comments, identified by docket number USCBP-2011-0031, by one of the following methods:

• Federal eRulemaking Portal: http://www.regulations.gov. Follow the instructions for submitting comments.

• Mail: Border Security Regulations Branch, Regulations and Rulings, Office of International Trade, Customs and Border Protection, 799 9th Street NW., 5th Floor, Washington, DC 20229-1179.

Instructions: All submissions received must include the agency name and docket title for this rulemaking, and must reference docket number USCBP-2011-0031. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may also be inspected during regular business days between the hours of 9 a.m. and 4:30 p.m. at the Office of International Trade, Customs and Border Protection, 799 9th Street NW., 5th Floor, Washington, DC. Arrangements to inspect submitted comments should be made in advance by calling Mr. Joseph Clark at (202) 325-0118.

FOR FURTHER INFORMATION CONTACT: Robert Neustadt, Office of Field Operations, (312) 983-1201 (not a toll-free number) or by email at Robert.Neustadt@dhs.gov.

SUPPLEMENTARY INFORMATION:

I. Public Participation

Interested persons are invited to participate in this rulemaking by submitting written data, views, or arguments on all aspects of the proposed rule. U.S. Customs and Border Protection (CBP) also invites comments that relate to the economic, environmental, or federalism effects that might result from this proposed rule. Comments that will provide the most assistance to CBP will reference a specific portion of the proposed rule, explain the reason for any recommended change, and include data, information, or authority that support such recommended change.

II. Background and Purpose

CBP ports of entry are locations where CBP officers and employees are assigned to accept entries of merchandise, clear passengers, collect duties, and enforce the various provisions of customs, immigration, agriculture and related U.S. laws at the border. The term “port of entry” is used in the code of Federal Regulations (CFR) in title 8 for immigration purposes and in title 19 for customs purposes. For customs purposes, CBP regulations list designated CBP ports of entry and the limits of each port in section 101.3(b)(1) of title 19 (19 CFR 101.3(b)(1)).

For immigration purposes, CBP regulations list ports of entry for aliens arriving by vessel and land transportation in section 100.4(a) of title 8 (8 CFR 100.4(a)). These ports are listed according to location by districts and are designated as Class A, B, or C. Green Bay, Wisconsin, is included in this list in District No. 9, as a Class A port of entry, meaning a port that is designated as a port of entry for all aliens arriving by vessel and land transportation.

As part of its continuing efforts to provide better service to carriers, importers, and the general public, CBP, of the Department of Homeland Security (DHS), is proposing to extend the port boundaries for the port of entry at Green Bay, Wisconsin.

The port of entry originally consisted of only the corporate limits of Green Bay, Wisconsin. Treasury Decision (T.D) 54597, May 27, 1958, expanded the port limits to also include several townships and the city of De Pere, all in the State of Wisconsin. Specifically, the current port limits of the Green Bay port of entry include the corporate limits of Green Bay, Wisconsin, and the territory within the townships of Ashwaubenon, Allouez, Preble and Howard and the city of De Pere, all in the State of Wisconsin. CBP is proposing to change the port limits because the boundaries of the listed townships are not easy to locate, one of the townships identified in T.D. 54597 (Preble) no longer exists, and due to an error, a portion of the Austin Straubel Airport is located outside the current port limits.

In order to eliminate the discrepancy of the nonexistent township, to make the boundaries more easily identifiable to the public, and to correct the omission of a portion of the airport, CBP is proposing to amend 19 CFR 101.3(b)(1) to expand and revise the port boundaries. The proposed boundaries would include all the territory located within the current port limits as well as the entire Austin Straubel Airport. In addition, for ease of identification, the proposed boundaries would be identified by reference to specific roadways and waterways rather than by townships. CBP has determined that this proposed change would not result in a change in the service that is provided to the public by the port, nor require a change in the staffing or workload at the port.

III. Current Port Limits of Green Bay, Wisconsin

The current port limits of the Green Bay port of entry are described by the corporate limits of Green Bay, Wisconsin, and the territory within the townships of Ashwaubenon, Allouez, Preble and Howard and the city of De Pere, all in the State of Wisconsin. We have included a map of the current port limits in the docket as “Attachment A: Green Bay (Current).”

IV. Proposed Port Limits of Green Bay, Wisconsin

The new port limits of Green Bay, Wisconsin, are proposed as follows:

Beginning at the point in the Sensiba State Wildlife Area where Lineville Rd. meets the shore of Lake Michigan, proceeding west on Lineville Rd. to the intersection with Westline Rd.; then south on Westline Rd. to the intersection with Glendale Ave.; then west on Glendale Ave. to the intersection with County Line Rd. (Country Route U); then south on County Line Rd. to the intersection with Wisconsin State Route 29/32; then southeast on Route 29/32 to the intersection with Riverdale Dr. (County Route J); then southwest on Riverdale Dr. to the intersection with Hillcrest Dr.; then south on Hillcrest Dr. to the intersection with W Mason St. (State Route 54); then southwest on W Mason St. to the intersection with S Pine Tree Rd.; then south on S Pine Tree Rd. to the intersection with Orlando Dr.; then east on Orlando Dr. (which turns into Grant St.) to the intersection with 3rd St.; then north on 3rd St. to Main St. (State Route 32); then east on Main St. across the Fox River onto George St.; then east on George St. to the intersection with S Webster Ave.; then southwest on S Webster Ave. to Chicago St. (County Route G); then southeast on Chicago St. to the intersection with Monroe Rd. (County Route GV); then northeast on Monroe Rd. to the intersection with State Route 172; then east on State Route 172 to the intersection with Interstate 43; then northeast on I-43 to the intersection with Manitowoc Rd.; then southeast on Manitowoc Rd. to the intersection with Eaton Rd. (County Route JJ), then east on Eaton Rd. to the intersection with S Vandenberg Rd. (County Route OO/QQ); then north on S Vandenberg Rd. to the intersection with Humboldt Rd., then northwest on Humboldt Rd. to the intersection with N Northview Rd.; then north on N Northview Rd. to the intersection with Luxemburg Rd.; then west on Luxemburg Rd. to the intersection with Spartan Rd.; then north on Spartan Rd. to the intersection with State Route 54/57; then northeast and north on Route 57 to the intersection with Van Lanen Rd.; then west on Van Lanen to the point where Van Lanen Rd. meets the shore of Lake Michigan. We have included a map of these proposed port limits in the docket as “Attachment B: Green Bay (Proposed).”

V. Regulatory Requirements

A. Signing Authority

The signing authority for this document falls under 19 CFR 0.2(a). Accordingly, the notice of proposed rulemaking may be signed by the Secretary of Homeland Security (or her delegate).

B. Executive Order 12866: Regulatory Planning and Review

This proposed rule is not considered to be a “significant regulatory action” under section 3(f) of Executive Order 12866, as supplemented by Executive Order 13563. Accordingly, this proposed rule has not been reviewed by the Office of Management and Budget (OMB) under Executive Order 12866. The proposed change is intended to expand the geographical boundaries of the Port of Green Bay, Wisconsin, and make it more easily identifiable to the public. There are no new costs to the public associated with this rule.

C. Regulatory Flexibility Act

The Regulatory Flexibility Act (5 U.S.C. 601 et seq.) requires Federal agencies to examine the impact a rule would have on small entities. A small entity may be a small business (defined as any independently owned and operated business not dominant in its field that qualifies as a small business per the Small Business Act), a small not-for-profit organization, or a small governmental jurisdiction (locality with fewer than 50,000 people).

This proposed rule does not directly regulate small entities. The proposed change is part of CBP's continuing program to more efficiently utilize its personnel, facilities, and resources, and to provide better service to carriers, importers, and the general public. To the extent that all entities are able to more efficiently or conveniently access the facilities and resources within the proposed expanded geographical area of the new port limits, this proposed rule, if finalized, should confer benefits to CBP, carriers, importers, and the general public.

Because this rule does not directly regulate small entities, we do not believe that this rule has a significant economic impact on a substantial number of small entities. However, we welcome comments on that assumption. The most helpful comments are those that can give us specific information or examples of a direct impact on small entities. If we do not receive comments that demonstrate that the rule causes small entities to incur direct costs, we may certify that this action does not have a significant economic impact on a substantial number of small entities during the final rule.

D. Unfunded Mandates Reform Act of 1995

This rule will not result in the expenditure by State, local, and tribal governments, in the aggregate, or by the private sector, of $100 million or more in any one year, and it will not significantly or uniquely affect small governments. Therefore, no actions are necessary under the provisions of the Unfunded Mandates Reform Act of 1995.

E. Executive Order 13132

The rule will not have substantial direct effects on the States, on the relationship between the National Government and the States, or on the distribution of power and responsibilities among the various levels of government. Therefore, in accordance with section 6 of Executive Order 13132, this rule does not have sufficient federalism implications to warrant the preparation of a federalism summary impact statement.

F. Authority

This change is proposed under the authority of 5 U.S.C. 301, 6 U.S.C. 112, 203 and 211, 8 U.S.C. 1103 and 19 U.S.C. 2, 66 and 1624.

VI. Proposed Amendment to Regulations

If the proposed port limits for Green Bay, Wisconsin, are adopted, CBP will amend 19 CFR 101.3(b)(1) as necessary to reflect the new port limits.

Dated: November 4, 2011.
Janet Napolitano,
Secretary of Homeland Security.

[FR Doc. 2011-29028 Filed 11-8-11; 8:45 am]

BILLING CODE 9111-14-P